DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

On July 16, 2004, we published a notice in the Federal Register to invite written comments on accrediting agencies that had submitted petitions for review by the Advisory Committee at its December 13-15, 2004 meeting. Although the Distance Education and Training Council was included in the list of accrediting agencies for the Advisory Committee's review of the Council's progress report, the July 16, 2004 notice omitted the Council's request for an expansion of scope. This notice invites written comments on the petition for expansion of scope submitted by the Distance Education and Training Council that will be reviewed at the Advisory Committee meeting to be held on December 13-15, 2004.

Petition for an Expansion of Scope

1. Distance Education and Training Council (Current scope of recognition: The accreditation of postsecondary institutions in the United States offering programs primarily by the distance education method up through the first professional degree. Title IV Note: Accreditation by this agency does not enable the entities it accredits to establish eligibility to participate in Title IV programs.) (Requested scope of recognition: the accreditation of postsecondary institutions in the United States offering programs primarily by the distance education method up through the first professional degree. Title IV Note: Under current law, distance education entities accredited by this agency are not eligible to participate in Title IV programs, other than the Distance Education Demonstration Project.)

Where Should I Submit My Comments?

Please submit your written comments by September 27, 2004 to Carol Griffiths, Accrediting Agency Evaluation, Accreditation and State Liaison. You may contact her at the U.S. Department of Education, 1990 K Street, NW., 7th Floor, Room 7105, Washington, DC 20006-8509, telephone: (202) 219-7011. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. § 1011c. One of the purposes of the Advisory Committee is to advise the Secretary of Education on the recognition of accrediting agencies and State approval agencies.

Will This Be My Only Opportunity To Submit Written Comments?

Yes, this notice announces the only opportunity you will have to submit written comments. However, another Federal Register notice will announce the meeting and invite individuals and/or groups to submit requests to make oral presentations before the Advisory Committee on the agencies that the Committee will review. That notice, however, does not offer an opportunity to submit written comment.

What Happens to the Comments That I Submit?

We will review your comments, in response to this notice, as part of our evaluation of the Distance Education and Training Council's compliance with the Secretary's Criteria for Recognition of Accrediting Agencies. The Criteria are regulations found in 34 CFR Part 602 (for accrediting agencies).

We will also respond to your comments, as appropriate, in the staff analysis we present to the Advisory Committee at its December 2004 meeting. Therefore, in order for us to give full consideration to your comments, it is important that we receive them by September 27, 2004. In all instances, your comments regarding the Distance Education and Training Council must relate to the Criteria for Recognition.

What Happens to Comments Received After the Deadline?

We will review any comments received after the deadline. If such comments, upon investigation, reveal that the accrediting agency is not acting in accordance with the Criteria for Recognition, we will take action either before or after the meeting, as appropriate.

Where Can I Inspect Petitions and Third-Party Comments Before and After the Meeting?

Subject to the provisions of 5 U.S.C. 522, petitions, interim reports, and those third-party comments received in advance of the meeting, will, upon written request, be made available, by appointment, for inspection and copying at the U.S. Department of Education, 1990 K Street, NW., 7th Floor, Room 7105, Washington, DC 20006-8509, telephone (202) 219-7011 until November 17, 2004. They will be available again after the December 13-15 Advisory Committee meeting.

How May I Obtain Electronic Access to This Document?

You may view this document, as well as all other Department of Education documents published in the Federal Register, in text or Adobe Portable Document Format (PDF) on the Internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gpo/nara/index.html.

Authority: 5 U.S.C. Appendix 2.

Dated: August 5, 2004.
Sally L. Stroup,
Assistant Secretary for Postsecondary Education.

[FR Doc. 04-18310 Filed 8-10-04; 8:45 am]

BILLING CODE 4000-01-P